FEDERAL COMMUNICATIONS COMMISSION

47 CFR Parts 2, 15 and 18

[DA 11-2011]

Editorial Revisions to the Commission's Rules

AGENCY: Federal Communications Commission.

ACTION: Final rule.

SUMMARY: This document makes a number of non-substantive, editorial revisions to the Commission's rules. These revisions are made to delete certain rule provisions that are without current legal effect and therefore are obsolete. These non-substantive revisions are part of the Commission's ongoing examination and improvement of FCC processes and procedures. The revisions clarify, simplify, and harmonize the rules, making them more readily accessible to the public and minimizing potential confusion for interested parties and Commission staff.

DATES: Effective February 1, 2012.

FOR FURTHER INFORMATION CONTACT: Hugh Van Tuyl, Office of Engineering and Technology, (202) 418-7506, email: hugh.vantuyl@fcc.gov, TTY (202) 418-2989.

SUPPLEMENTARY INFORMATION: This is a summary of the Commission's Order, DA 11-2011, adopted December 12, 2011 and released December 14, 2011. The full text of this document is available for inspection and copying during normal business hours in the FCC Reference Center (Room CY-A257), 445 12th Street SW., Washington, DC 20554. The complete text of this document also may be purchased from the Commission's copy contractor, Best Copy and Printing, Inc., 445 12th Street SW., Room CY-B402, Washington, DC 20554. The full text may also be downloaded at: www.fcc.gov.

Summary of the Order

1. In this Order, the Commission makes a number of non-substantive, editorial revisions to parts 2, 15 and 18 of the Commission's rules. These revisions are made to delete certain rule provisions that are without current legal effect and therefore are obsolete. These non-substantive revisions are part of the Commission's ongoing examination and improvement of FCC processes and procedures. The revisions clarify, simplify, and harmonize the rules, making them more readily accessible to the public and minimizing potential confusion for interested parties and Commission staff alike. The revisions and the specific reasons for adopting each change are set forth below.

2. Part 2, Subpart N, FCC Procedure for Testing Class A, B and S Emergency Position Indicating Radiobeacons (EPIRBs). This Order deletes in its entirety part 2, Subpart N, FCC Procedure for Testing Class A, B and S Emergency Position Indicating Radiobeacons (EPIRBs), § 2.1501 through 2.1517 and Figures 1 through 4. All of the rules and figures in this subpart pertain to a measurement procedure that was developed for determining the compliance of certain types of maritime distress beacons with technical requirements formerly contained in part 80 of the Commission's rules. The Commission deleted the part 80 technical requirements for Class A, B and S EPIRBs in 2002. The Commission also prohibited the manufacture, importation and sale of this equipment effective February 1, 2003 and its operation effective December 31, 2006. Thus, all of the rules in this subpart are without current legal effect and are obsolete.

3. Part 15, Radio Frequency Devices, transition provisions. This Order modifies § 15.37 of the rules to expired transition provisions. This section lists the dates by which certain types of equipment must comply with revised part 15 technical requirements. The Commission established § 15.37 when it substantially revised part 15 of the rules in 1989. The changes it adopted in that revision tightened the emission limits for certain types of equipment such as radio receivers and required some devices to comply with emission limits at higher frequencies than the previous rules. The Commission therefore decided to provide manufacturers with a transition period to bring equipment into compliance with the revised part 15 requirements.

4. Subsequent to the 1989 part 15 revision, the Commission added a number of additional transition provisions to § 15.37. These additional provisions are unrelated to the 1989 part 15 revisions and instead specify the dates by which equipment had to comply with later revisions to part 15 of the rules. The types of additional devices covered by § 15.37 include cordless telephones, scanning receivers, computer boards and power supplies, medical telemetry equipment, radar detectors and TV bands devices.

5. All of the transition dates listed in § 15.37 have passed, so the Commission analyzed each paragraph in this section to determine whether they contain any regulatory requirements that would necessitate their retention. The Commission determined that many but not all of these provisions can be as obsolete. This Order revises § 15.37 as described.

• Sections 15.37(a), 15.37(b) 15.37(c) and 15.37(d) are deleted. These sections list the dates by which intentional radiators, unintentional radiators, radio receivers and equipment operating in the 902-905 MHz band had to comply with the rules adopted in the 1989 part 15 revision. All of the transition dates listed in these sections has passed, and these sections contain no regulatory requirements that would necessitate their retention. Thus, they are without legal effect and are obsolete. The Commission also deleted two provisions in part 15 that reference these obsolete sections: the note in § 15.31(l) which references the receiver transition rule in § 15.37(b); and § 15.249(f) which references the transition provision in § 15.37(d).

• The introductory text to § 15.37 is deleted. This text was intended as a preface to the transition provisions in paragraphs (a) and (b) because it relates to the authorization, manufacture and importation of equipment that complies with the part 15 rules in effect prior to June 23, 1989. It is not applicable as an introduction to any of the other transition provisions that were added subsequent to the 1989 part 15 revision. Because paragraphs (a) and (b) are deleted, the introductory text for them is also without legal effect and is obsolete.

• Section 15.37(e) is deleted. This section specifies the dates by which cordless telephones must comply with the requirements of § 15.214(d) to incorporate digital security codes to prevent unintentional access to the public switched telephone network by base units, and unintentional ringing of handsets. Applications for certification of cordless telephones that do not comply with these requirements were no longer accepted after May 10, 1991, and the manufacture of cordless telephones that do not comply with these requirements had to cease on or before September 11, 1991. These transition dates have passed, and this section contains no other regulatory requirements that would necessitate its retention. Thus, this section is without legal effect and is obsolete.

• Section 15.37(f) is deleted. This section requires scanning receivers manufactured or imported after April 26, 1994 to comply with the provisions of § 15.121(a)(1) that require blocking of reception on frequencies allocated to the Cellular Radiotelephone Service in part 22 of the rules. Section 15.37(f) was effectively superseded by § 15.37(h), which requires scanning receivers manufactured or imported after October 25, 1999 to comply with a subsequently revised § 15.121 that tightened the rules to ensure that scanning receivers do not receive Cellular Radiotelephone Service frequencies. Thus, § 15.37(f) is without legal effect and is obsolete. § 15.37(h) is retained because it contains relevant regulatory information, i.e., that scanning receivers manufactured or imported prior to October 25, 1999 may continue to be marketed and operated.

• Section 15.37(g) is deleted. This section states that certain CPU computer boards and power supplies must be authorized under either the Commission's certification procedure or its Declaration of Conformity (DoC) procedure, as set forth in § 15.101, effective June 19, 1997. Prior to the adoption of § 15.37(g), manufacturers and importers of such computer equipment were not required to have their equipment authorized. Thus, § 15.37(g) simply announces the date that authorization under either the DoC or certification procedure became mandatory for CPU computer boards and related equipment, and cross-references another rule section for informational purposes. As a result, § 15.37(g) is without legal effect and is obsolete.

• Section 15.37(n) is deleted. This section prohibited the marketing of TV bands devices before the planned February 18, 2009 digital television transition date. No TV bands devices were approved for marketing before that date and the date has passed. Thus, § 15.37(n) is without legal effect and is obsolete.

• In addition to the changes listed, the remaining paragraphs in § 15.37 are sequentially renumbered. This is merely an editorial change.

6. Part 15, Radio Frequency Devices, other provisions. This Order modifies or deletes a number of other part 15 rules containing provisions that have become obsolete because they now only function as unnecessary informational statements (e.g., due to the expiration of a transition deadline), without any legal effect. Specifically, this order makes the following changes.

• Section 15.115 is revised by removing the last sentence from each of paragraphs (c)(1)(i), (h) and (i). These paragraphs contain technical requirements for transfer switches used to select between a cable TV input and an over-the-air antenna input to a TV receiver. Each of these three paragraphs ends with a statement designed to inform the public that the requirements in that paragraph would become effective June 30, 1997. Because that date has passed, the sentence at the end of each of these paragraphs provides unnecessary information that does not affect the substance of the rules or otherwise have any legal effect.

• Section 15.117 is revised by removing expired transition provisions from paragraphs (i) and (j) and making editorial revisions to the text of paragraph (i) that were necessitated by the removal of the transition provisions. Paragraph (i) contains a requirement that all TV receivers must be equipped with a digital TV tuner no later than March 1, 2007. This requirement was phased in over several years, with larger screen TVs having to meet it first, followed later by smaller screen TVs and other devices such as VCRs and digital video recorders that contain TV tuners. Paragraph (j) of this section contains technical requirements for transfer switches within a TV receiver that are used to select between a cable TV input and an over-the-air antenna input. This paragraph ends with a sentence stating that the requirements in that paragraph are effective June 30, 1997. The transition dates in paragraphs (i) and (j) have passed, and the statute of limitations in the Communications Act prohibits any new enforcement actions for violations of these provisions. Accordingly, the transition provisions in these paragraphs provide unnecessary information that does not affect the substance of the rules or otherwise have any legal effect.

• Section 15.118 is revised by removing the note at the end of the section. This section specifies the technical requirements that a TV receiver must meet to be marketed as cable ready or cable compatible. This section contains a note at the end informing the public that the provisions of the section would apply as of June 30, 1997. Because that date has passed, and because the statute of limitations in the Communications Act precludes any enforcement action for activities taking place before that date, that note provides unnecessary information that does not affect the substance of the rules or otherwise have any legal effect.

• Section 15.120 is revised by removing the transition dates from paragraphs (b) and (d)(2). This section requires that TV receivers incorporate the capability for users to block programming based on rating information transmitted with the program. Paragraph (b) states that TV receivers must meet the program blocking requirements in paragraphs (c), (d) and (e) of this section effective January 1, 2000. Paragraph (d)(2) states that, effective March 15, 2006, digital TV receivers must be capable of receiving program rating information in accordance with a specific industry standard. Thus, these provisions merely state the effective dates of other requirements in § 15.120. These dates have passed, and the statute of limitations for violations of these requirements has also passed. Therefore, the transition provisions provide unnecessary information that does not affect the substance of the rules or otherwise have any legal effect.

• Section 15.123 is revised by removing expired transition provisions from paragraph (b)(6) and making editorial revisions to the text that are necessitated by their removal. This paragraph states that a unidirectional digital cable television may not be labeled or marketed as digital cable ready unless it includes a digital TV tuner and contains at least one of two specific interfaces. This requirement was phased in, with some larger screen TV sets having to meet it by July 1, 2004, followed by smaller TV sets, with all sets having to meet it by July 1, 2007. Because all of the transition dates and the statute of limitations for enforcement actions have passed, the transition provisions of this section provide unnecessary information that does not affect the substance of the rules or otherwise have any legal effect.

• Section 15.124 is deleted. This section requires television receivers and related devices (e.g., video recorders and set-top boxes) manufactured between April 1, 2009 and June 30, 2009 to include consumer information about the DTV transition. The time period during which this requirement applied ended over two years ago, and the statute of limitations for violations of this requirement ended on June 30, 2010. As a result, this section is without current legal effect and is obsolete.

7. Part 18, Industrial, Scientific and Medical Equipment. This Order amends part 18 of the rules to delete § 18.123. This section lists the dates by which specific types of Industrial, Scientific and Medical (ISM) equipment must comply with the present limits on radio frequency emissions conducted from a device onto the AC power lines. The Commission modified these emission limits in 2002 and established dates by which equipment had to comply with the modified limits. All transition dates listed within this section have passed and this section contains no other regulatory requirements. Thus, it is without current legal effect and is obsolete.

8. The rule amendments adopted in this Order and set forth in the attached Appendix are non-substantive, editorial revisions of the rules pursuant to 47 CFR § 0.231(b). These revisions delete rule provisions that are without current legal effect and therefore are obsolete, delete references to obsolete rules and make minor editorial changes that are necessary due to the deletion of obsolete rule provisions. Accordingly, the Commission finds good cause to conclude that notice and comment procedures are unnecessary and would not serve any useful purpose. For the same reason, the Commission also finds good cause to make these non-substantive, editorial revisions of the rules effective upon publication in the Federal Register.

9. Because this Order is being adopted without notice and comment, the Regulatory Flexibility Act does not apply.

10. The rules contained herein have been analyzed with respect to the Paperwork Reduction Act of 1995 and found to contain no new or modified form, information collection, and/or recordkeeping, labeling, disclosure, or record retention requirements, and will not increase or decrease burden hours imposed on the public. In addition, therefore, this Order does not contain any new or modified “information collection burden for small business concerns with fewer than 25 employees,” pursuant to the Small Business Paperwork Relief Act of 2002. The Commission will not send a copy of the Order in a report to Congress and the Government Accountability Office pursuant to the Congressional Review Act.

11. Accordingly, effective upon publication in the Federal Register, parts 2, 15 and 18 of the Commission's rules Are Amended, as set forth in the attached Appendix, pursuant to the authority contained in sections 4(i), 5(c), and 303(r) of the Communications Act, 47 U.S.C. 154(i), 155(c), and 303(r), and sections 0.231(b) and 0.241(h) of the Commission's regulations, 47 CFR 0.231(b), 0.241(h).

List of Subjects in 47 CFR Parts 2, 15 and 18

Communications equipment, Reporting and recordkeeping.

Federal Communications Commission.
Julius P. Knapp,
Chief, Office of Engineering and Technology.

Final Rules

For the reasons discussed in the preamble, the Federal Communications Commission amends 47 CFR parts 2, 15 and 18 as follows:

PART 2—FREQUENCY ALLOCATIONS AND RADIO TREATY MATTERS; GENERAL RULES AND REGULATIONS

1. The authority citation for part 2 continues to read as follows:

Authority: 47 U.S.C. 154, 302a, 303, and 336, unless otherwise noted.

Subpart N [Removed and Reserved]

2. Remove and reserve subpart N, consisting of §§ 1.1801 through 1.1870, and Figures 1 through 4.

PART 15—RADIO FREQUENCY DEVICES

3. The authority citation for part 15 continues to read as follows:

Authority: 47 U.S.C. 154, 302a, 303, 304, 307, 336, 544a, and 549.

4. Section § 15.31 is amended by removing the note following paragraph (l).

5. Section § 15.37 is revised to read as follows:

§ 15.37 Transition provisions for compliance with the rules.

(a) The manufacture or importation of scanning receivers, and frequency converters designed or marketed for use with scanning receivers, that do not comply with the provisions of § 15.121 shall cease on or before October 25, 1999. Effective July 26, 1999, the Commission will not grant equipment authorization for receivers that do not comply with the provisions of § 15.121. This paragraph does not prohibit the sale or use of authorized receivers manufactured in the United States, or imported into the United States, prior to October 25, 1999.

(b) Effective October 16, 2002, an equipment approval may no longer be obtained for medical telemetry equipment operating under the provisions of § 15.241 or § 15.242. The requirements for obtaining an approval for medical telemetry equipment after this date are found in subpart H of part 95 of this chapter.

(c) All radio frequency devices that are authorized under the certification, verification or declaration of conformity procedures on or after July 12, 2004 shall comply with the conducted limits specified in § 15.107 or § 15.207 as appropriate. All radio frequency devices that are manufactured or imported on or after July 11, 2005 shall comply with the conducted limits specified in § 15.107 or § 15.207, as appropriate. Equipment authorized, imported or manufactured prior to these dates shall comply with the conducted limits specified in § 15.107 or § 15.207, as appropriate, or with the conducted limits that were in effect immediately prior to September 9, 2002.

(d) Radar detectors manufactured or imported after August 28, 2002 and marketed after September 27, 2002 shall comply with the regulations specified in this part. Radar detectors manufactured or imported prior to January 27, 2003 may be labeled with the information required by § 2.925 of this chapter and § 15.19(a) on the individual equipment carton rather than on the device, and are exempt from complying with the requirements of § 15.21.

(e) U-NII equipment operating in the 5.25-5.35 GHz band for which applications for certification are filed on or after July 20, 2006 shall comply with the DFS and TPC requirements specified in § 15.407. U-NII equipment operating in the 5.25-5.35 GHz band that are imported or marketed on or after July 20, 2007 shall comply with the DFS and TPC requirements in § 15.407.

(f) All Access BPL devices that are manufactured, imported, marketed or installed on or after July 7, 2006, shall comply with the requirements specified in subpart G of this part, including certification of the equipment.

6. Section § 15.115 is amended by revising paragraphs (c)(1)(i), (h) and (i) to read as follows:

§ 15.115 TV interface devices, including cable system terminal devices.

* * * * *

(c) * * *

(1) * * *

(i) For a cable system terminal device or a TV interface device equipped for use with a cable system or a master antenna, as defined in paragraph (b)(3) of this section, the isolation between the antenna and cable input terminals shall be at least 80 dB from 54 MHz to 216 MHz, at least 60 dB from 216 MHz to 550 MHz and at least 55 dB from 550 MHz to 806 MHz. The 80 dB standard applies at 216 MHz and the 60 dB standard applies at 550 MHz. In the case of a transfer switch requiring a power source, the required isolation shall be maintained in the event the device is not connected to a power source or power is interrupted.

* * * * *

(h) Stand-alone switches used to alternate between cable service and an antenna shall provide isolation between the antenna and cable input terminals that is at least 80 dB from 54 MHz to 216 MHz, at least 60 dB from 216 MHz to 550 MHz and at least 55 dB from 550 MHz to 806 MHz. The 80 dB standard applies at 216 MHz and the 60 dB standard applies at 550 MHz. In the case of stand-alone switches requiring a power source, the required isolation shall be maintained in the event the device is not connected to a power source or power is interrupted.

(i) Switches and other devices intended to be used to by-pass the processing circuitry of a cable system terminal device, whether internal to such a terminal device or a stand-alone unit, shall not attenuate the input signal more than 6 dB from 54 MHz to 550 MHz, or more than 8 dB from 550 MHz to 804 MHz. The 6 dB standard applies at 550 MHz.

7. Section § 15.117 is amended by revising paragraph (i) and revising paragraph (j) to read as follows:

§ 15.117 TV broadcast receivers.

* * * * *

(i) Digital television reception requirement.

(1) Responsible parties, as defined in § 2.909 of this chapter, are required to equip with DTV tuners new TV broadcast receivers that are shipped in interstate commerce or imported from any foreign country into the United States and for which they are responsible to comply with the provisions of this section. For purposes of this section, the term “TV broadcast receivers” includes other video devices (videocassette recorders (VCRs), digital video recorders such as hard drive and DVD recorders, etc.) that receive television signals.

(2) The requirement to include digital television reception capability in new TV broadcast receivers does not apply to devices such as mobile telephones and personal digital assistants where such devices do not include the capability to receive TV service on the frequencies allocated for broadcast television service.

(j) For a TV broadcast receiver equipped with a cable input selector switch, the selector switch shall provide, in any of its set positions, isolation between the antenna and cable input terminals of at least 80 dB from 54 MHz to 216 MHz, at least 60 dB from 216 MHz to 550 MHz and at least 55 dB from 550 MHz to 806 MHz. The 80 dB standard applies at 216 MHz and the 60 dB standard applies at 550 MHz. In the case of a selector switch requiring a power source, the required isolation shall be maintained in the event the device is not connected to a power source or power is interrupted. An actual switch that can alternate between reception of cable television service and an antenna is not required for a TV broadcast receiver, provided compliance with the isolation requirement specified in this paragraph can be demonstrated and the circuitry following the antenna input terminal(s) has sufficient band-width to allow the reception of all TV broadcast channels authorized under this chapter.

* * * * *

8. Section § 15.118 is amended by removing the note following paragraph (d).

9. Section § 15.120 is amended by revising paragraphs (b) and (d)(2) to read as follows:

§ 15.120 Program blocking technology requirements for television receivers.

* * * * *

(b) All TV broadcast receivers as defined in § 15.3(w), including personal computer systems meeting that definition, with picture screens 33 cm (13 in) or larger, measured diagonally, or with displays in the 16:9 aspect ratio that are 19.8 cm (7.8 in) or greater in height and digital television receivers without an associated display device shipped in interstate commerce or manufactured in the United States shall comply with the provisions of paragraphs (c), (d), and (e) of this section.

* * * * *

(d) * * *

(2) Digital television receivers shall react in a similar manner as analog televisions when programmed to block specific rating categories. Digital television receivers will receive program rating descriptors transmitted pursuant to industry standard EIA/CEA-766-A “U.S. and Canadian Region Rating Tables (RRT) and Content Advisory Descriptors for Transport of Content Advisory Information using ATSC A/65-A Program and System Information Protocol (PSIP),” 2001 (incorporated by reference, see § 15.38). Blocking of programs shall occur when a program rating is received that meets the pre-determined user requirements. Digital television receivers shall be able to respond to changes in the content advisory rating system.

* * * * *

10. Section 15.123 is amended by revising paragraph (b)(6) to read as follows:

§ 15.123 Labeling of digital cable ready products.

* * * * *

(b) * * *

(6) In addition to the requirements of paragraphs (b)(1) through (5) of this section, a unidirectional digital cable television may not be labeled or marketed as digital cable ready or with other terminology as described in paragraph (b) of this section, unless it includes a DTV broadcast tuner as set forth in § 15.117(i) and employs at least one interface specified in paragraphs (b)(6)(i) and (ii) of this section:

(i) For 480p grade unidirectional digital cable televisions, either a DVI/HDCP, HDMI/HDCP, or 480p Y,Pb,Pr interface.

(ii) For 720p/1080i grade unidirectional digital cable televisions, either a DVI/HDCP or HDMI/HDCP interface.

* * * * *

§ 15.124 [Removed]

11. Remove § 15.124.

§ 15.249 [Amended]

12. Section 15.249 is amended by removing paragraph (f).

PART 18—INDUSTRIAL, SCIENTIFIC, AND MEDICAL EQUIPMENT

13. The authority citation for part 18 continues to read as follows:

Authority: 47 U.S.C. 4, 301, 302, 303, 304, 307.

§ 18.123 [Removed]

14. Remove § 18.123.

[FR Doc. 2012-2061 Filed 1-31-12; 8:45 am]

BILLING CODE 6712-01-P